GENERAL SERVICES ADMINISTRATION

[OMB Control No. 3090-0310; Docket No. 2024-0001; Sequence No. 7]

Information Collection; Nondiscrimination in Federal Financial Assistance for Real Property Recipients

AGENCY: The U.S. General Services Administration (GSA), Office of Civil Rights (OCR).

ACTION: Notice and request for comments.

SUMMARY: In accordance with the Paperwork Reduction Act of 1995, and the Office of Management and Budget (OMB) regulations, GSA invites the public to comment on a revision to existing information collection 3090-0310, to add a Nondiscrimination in Federal Financial Assistance for Real Property Recipients form. This information is needed to facilitate nondiscrimination in GSA's Federal Financial Assistance Programs, consistent with Federal civil rights laws and regulations that apply to recipients of Federal financial assistance.

DATES: Submit comments on or before: October 7, 2024.

FOR FURTHER INFORMATION CONTACT: Lisa Lee Anderson, External Programs Branch Chief, OCR, at (202) 501-0767 or via email at civilrights@gsa.gov.

ADDRESSES: Submit comments regarding this burden estimate or any other aspect of this collection of information, including suggestions for reducing this burden, via http://www.regulations.gov. Submit comments via the Federal eRulemaking portal by searching the OMB control number. Select the link “Submit a Comment” that corresponds with “Information Collection 3090-0310, Nondiscrimination in Federal Financial Assistance Programs for Real Property Recipients”. Follow the instructions provided at the “Submit a Comment” screen. Please include your name, company name (if any), and “Information Collection 3090-0310, Nondiscrimination in Federal Financial Assistance Programs for Real Property Recipients” on your attached document. If your comment cannot be submitted using regulations.gov, call or email the points of contact in the FOR FURTHER INFORMATION CONTACT section of this document for alternate instructions.

Instructions: Please submit comments only and cite Information Collection 3090-0310, Nondiscrimination in Federal Financial Assistance for Real Property Recipients, in all correspondence related to this collection. Comments received generally will be posted without change to http://www.regulations.gov, including any personal and/or business confidential information provided. To confirm receipt of your comment(s), please check www.regulations.gov, approximately two-to-three business days after submission to verify posting.

SUPPLEMENTARY INFORMATION:

A. Purpose

GSA has mission responsibilities related to monitoring and enforcing compliance with Federal civil rights laws and regulations that apply to Federal financial assistance programs administered by GSA. Specifically, those laws provide that no person on the ground of race, color, national origin, disability, sex, or age shall be excluded from participation in, be denied the benefits of, or be otherwise subjected to discrimination under any program in connection with which Federal financial assistance is extended under laws administered in whole, or in part, by GSA.

These mission responsibilities generate the requirement to request and obtain certain data from recipients of Federal surplus real property conveyances under the Federal Public Benefit Conveyance Program for the purpose of determining compliance, such as the number of individuals that speak non-English languages encountered by the recipient's program(s) and how the recipient is addressing meaningful access for individuals that are Limited English Proficient; whether the recipients provide disability access in compliance with applicable laws and standards; whether there has been complaints or lawsuits filed against the recipient based on prohibited discrimination; whether there has been any findings of discrimination; and whether the recipient's facilities are accessible to qualified individuals with disabilities.

B. Annual Reporting Burden

Respondents: 75.

Responses per Respondent: 1.

Total Responses: 75.

Hours per Response: 2.

Total Burden Hours: 150.

C. Public Comments

Public comments are particularly invited on: Whether this collection of information will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the GSA Regulatory Secretariat Division by calling 202-501-4755 or emailing GSARegSec@gsa.gov. Please cite OMB Control No. 3090-0310, Nondiscrimination in Federal Financial Assistance Programs for Real Property Recipients, in all correspondence.

Lois Mandell,
Director, Regulatory Secretariat Division, General Services Administration. Regulatory Secretariat Division, General Services Administration.

[FR Doc. 2024-17451 Filed 8-6-24; 8:45 am]

BILLING CODE 6820-34-P